DEPARTMENT OF TRANSPORTATION

Federal Aviation Administration

14 CFR Part 73

[Docket No. FAA-2009-0770; Airspace Docket No. 09-ASW-20]

RIN 2120-AA66

Amendment to Restricted Areas R-5103A, R-5103B, and R-5103C; McGregor, NM

AGENCY: Federal Aviation Administration (FAA), DOT.

ACTION: Final rule; technical amendment.

SUMMARY: This action amends the airspace description of Restricted Areas R-5103A, R-5103B, and R-5103C; McGregor, NM. In a final rule published in the Federal Register on November 3, 1994, (59 FR 55030), an error was made in the airspace description to the time of designation for Restricted Areas R-5103A, R-5103B, R-5103C and R-5103D (R-5130D was subsequently revoked on January 20, 2005 (69 FR 72113)). Specifically, the time of designation stated “0700-2000 local time, Monday-Friday, other times by NOTAM” instead of “0700-2000 local time Monday-Friday; other times by NOTAM”. This action corrects that error.

DATES: Effective Dates: 0901 UTC, October 22, 2009.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On November 3, 1994, a final rule for Airspace Docket No. 94-ASW-12, was published in the Federal Register (59 FR 55030), changing the time of designation for Restricted Areas R-5103A, R-5103B, R-5103C, and R-5103D at McGregor, NM. In that rule, the preamble discussion stated the time of designation was being changed from the existing time of designation, “0700-2000 local time; other times by NOTAM” to “0700-2000 local time, Monday-Friday; other times by NOTAM” to lessen the burden on the public and accurately reflect their actual time of use. However, in the regulatory language, the time of designation was published as “0700-2000 local time, Monday-Friday, other times by NOTAM”. Having changed the semi-colon between the days of the week and NOTAM provision to a comma unintentionally linked the NOTAM provision to the days of the week listed in the legal description only. The unintended consequence of this error is that the NOTAM provision does not apply to Saturdays or Sundays, as it did previous to that final rule. Had a semi-colon been published in the regulatory text between the days of the week and the NOTAM provision, the “other times by NOTAM” provision would apply daily.

Subsequent to the rule published November 3, 1994, (59 FR 55030), a second rule affecting R-5103A, R-5103B, R-5103C, and R-5103D was published December 13, 2004, (69 FR 72113), Airspace Docket No. 04-ASW-11, FAA Docket No. FAA-2004-17773. This second rule modified the boundaries and designated altitudes for Restricted Areas R-5103A, R-5103B, and R-5103C, and revoked R-5103D to allow the U.S. Army to activate the restricted areas in a manner that was more consistent with the actual utilization of the airspace. As a result of this action, the correction to Restricted Area R-5103D is not necessary as it no longer exists.

Based on the original intent of the final rule published November 3, 1994, and subsequently modified by a second final rule published December 13, 2004, the NOTAM provisions for R-5103A, R-5103B, and R-5103C should be applicable daily, outside the 0700-2000 local time, Monday through Friday, published hours currently listed in that final rule. This action corrects that error by amending the time of designation for R-5103A, R-5103B, and R-5103C to read, “0700-2000 local time, Monday-Friday; other times by NOTAM”.

List of Subjects in 14 CFR Part 73

Airspace, Prohibited areas, Restricted areas.

Correction to Final Rule

Accordingly, pursuant to the authority delegated to me, the legal description as published in the Federal Register on November 3, 1994 (59 FR 55030), Airspace Docket 94-ASW-12, and incorporated by reference in 14 CFR 73, is corrected as follows:

§ 73.51 [Amended]

On page 55031, correct the airspace description for the time of designation for Restricted Areas R-5103A, R-5103B, and R-5103C, to read as follows:

* * * * *

R-5103A McGregor, NM [Amended]

By removing the current “Time of designation. 0700-2000 local time, Monday-Friday, other times by NOTAM.” and substituting the following: “Time of designation. 0700-2000 local time Monday-Friday; other times by NOTAM.”

R-5103B McGregor, NM [Amended]

By removing the current “Time of designation. 0700-2000 local time, Monday-Friday, other times by NOTAM.” and substituting the following: “Time of designation. 0700-2000 local time Monday-Friday; other times by NOTAM.”

R-5103C McGregor, NM [Amended]

By removing the current “Time of designation. 0700-2000 local time, Monday-Friday, other times by NOTAM.” and substituting the following: “Time of designation. 0700-2000 local time Monday-Friday; other times by NOTAM.”

* * * * *

Issued in Washington, DC, on August 27, 2009.
Ellen Crum,
Acting Manager, Airspace and Rules Group.

[FR Doc. E9-21263 Filed 9-16-09; 8:45 am]

BILLING CODE 4910-13-P